DEPARTMENT OF ENERGY

Federal Energy Regulatory Commission

[Project No. 2187-046]

Public Service Company of Colorado; Notice of Intent To Prepare an Environmental Assessment

On April 3, 2025, the Public Service Company of Colorado (PSCo or licensee) filed an application for a non-capacity amendment for the Georgetown Project No. 2187. The project is located on South Clear Creek in Georgetown and Clear Creek counties, Colorado. The project occupies federal lands managed by the U.S. Forest Service.

The licensee is constructing a stream bypass pipeline to temporarily divert up to 200 cubic feet per second (cfs) from South Clear Creek around the Forebay Reservoir and Dam, ultimately discharging just downstream of the dam. The bypass pipeline addresses dam safety and water quality concerns and supports water management efforts until the dam can be decommissioned. The required minimum flows would continue to be released; however, the delivery method would change. A Notice of Application Accepted for Filing and Soliciting Comments, Motions to Intervene, and Protest was issued on July 8, 2025.

This notice identifies Commission staff's intention to prepare an environmental assessment (EA) analyzing the proposed action. The planned schedule for the completion of the EA is November 12, 2025.¹ Revisions to the schedule may be made as appropriate. The EA will be issued and made available for review by all interested parties. All comments filed on the EA will be reviewed by staff and considered in the Commission's final decision on the proceeding.

¹ The unique identification number for documents relating to this environmental review is EAXX-019-20-000-1752151774.

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Rebecca Martin at 202-502-6012 or Rebecca.martin@ferc.gov.

Dated: September 9, 2025.
Debbie-Anne A. Reese,
Secretary.

[FR Doc. 2025-17689 Filed 9-11-25; 8:45 am]

BILLING CODE 6717-01-P